DEPARTMENT OF AGRICULTURE

Rural Business-Cooperative Service

Announcement of Value-Added Producer Grant Application Deadlines

AGENCY: Rural Business-Cooperative Service, USDA.

ACTION: Notice of withdrawal of Solicitation of Applications (NOSA) for Value-Added Producer Grant Program (VAPG).

SUMMARY: Rural Development is withdrawing the May 6, 2009, Federal Register notice (74 FR 20900), announcing the availability of approximately $18 million in competitive grants for fiscal year 2009 to help independent agricultural producers enter into value-added activities.

DATES: July 1, 2009.

FOR FURTHER INFORMATION CONTACT: Andrew A. Jermolowicz, USDA Rural Development, Mail STOP 3250, Room 4016-South, 1400 Independence Avenue, SW., Washington, DC 20250-3250, Telephone: (202) 720-8460, e-mail: cpgrants@wdc.usda.gov.

SUPPLEMENTARY INFORMATION: The May 6, 2009, Federal Register notice was published in error. The notice will be reissued with clarification of contradictory language, additional guidance on new program components, and extended application deadlines.

Dated: June 25, 2009.
Judith A. Canales,
Administrator, Rural Business-Cooperative Service.

[FR Doc. E9-15533 Filed 6-30-09; 8:45 am]

BILLING CODE 3410-XY-P